DEPARTMENT OF LABOR

Employment and Training Administration

Comment Request for Information Collection for Site Visit Data Collection; American Recovery and Reinvestment Act (ARRA)-Funded Grants; Job Training Evaluations; Extension Without Revisions

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 (PRA) [44 U.S.C. 3506(c)(2)(A)]. This program helps ensure that requested data can be provided in the desired format, reporting burden (time and financial resources) is minimized, collection instruments are clearly understood, and the impact of collection requirements on respondents can be properly assessed.

Currently, ETA seeks a regular 3 year extension of the Office of Management and Budget (OMB) approval for collecting site visit data from organizations that received grants under four Solicitations for Grant Applications (SGAs) that were issued under the ARRA Initiative: Pathways Out of Poverty (POP), Energy Training Partnership (ETP), State Energy Sector Partnership (SESP), and Health Care and Other High Growth and Emerging Industries Training grant initiative. POP, ETP and SESP are all Green Jobs training programs. The overall aim of these evaluations is to determine the extent to which enrollees achieve increases in employment, earnings, and career advancement as a result of their participation in the training provided and to identify promising best practices and strategies for replication. It is necessary to collect data from the grant sites included in both studies while they are still in operation. Failure to collect site visit data will affect our ability to conduct rigorous evaluations of these grants. For example, site visits are the only way the research team can observe the training programs in operation and collect real time data that amplifies the findings through other documentation. Lack of a rigorous evaluation process will mean that no information will be available on the potential of training for green jobs as a strategy for reducing poverty or increasing employment. Conducting these evaluations rigorously requires appropriate operational data collection. This information collection follows an emergency review that was conducted in accordance with PRA and 5 CFR 1320.13. The submission for OMB emergency review was approved on January 19, 2012.

DATES: Written comments must be submitted to the office listed in the addresses section below on or before June 19, 2012.

ADDRESSES: Submit written comments to Ms. Savi Swick, Office of Policy Development and Research, Room N-5641, Employment and Training Administration, U.S. Department of Labor, 200 Constitution Avenue NW., Washington, DC 20210. Telephone number: 202-693-3382 (this is not a toll-free number). Individuals with hearing or speech impairments may access the telephone number above via TTY by calling the toll-free Federal Information Relay Service at 1-877-889-5627 (TTY/TDD). Fax: 202-693-2766. Email: Swick.Savi@dol.gov. A copy of the proposed information collection request (ICR) can be obtained by contacting Savi Swick.

SUPPLEMENTARY INFORMATION:

I. Background

The proposed information collection is for evaluations of the Green Jobs and Health Care training grants. This evaluation is sponsored by ETA to understand the processes surrounding the design and implementation of four specific grant programs.

In February 2009, President Obama signed the ARRA into law in an effort to preserve and create jobs, promote economic growth, and assist those impacted by the recession. The ARRA included funding for four SGAs with the goal of training workers in the skills required to be employed in specific high-growth and emerging industries including health care, energy efficiency, and renewable energy. The four SGAs are:

• Energy Training Partnership ($100 million allocated across 25 projects)

• Pathways Out of Poverty ($150 million for 38 projects)

• State Energy Sector Partnership and Training ($190 million for 34 projects)

• Health Care and Other High Growth Emerging Industries ($225 million for 55 projects).

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension without changes.

Title: Site Visit Data Collection: American Recovery and Reinvestment Act (ARRA)-Funded Grants; Job Training Evaluations.

OMB Number: 1205-0486.

Affected Public: Individuals and Non-Profit Private Entities.

Total Annual Respondents: 620.

Annual Frequency: Once.

Total Annual Responses: 620.

Average Time per Response: 1.5 hours per focus group discussion and 1 hour per site visit interview.

Estimated Total Annual Burden Hours: 930.

Total Annualized Operation and Maintenance Costs: $0.

Comments submitted in response to this comment request will be summarized and/or included in the request for OMB approval of the ICR; they will also become a matter of public record.

Dated: Signed in Washington, DC, on this 16th day of April 2012.
Signed:
Jane Oates,
Assistant Secretary for Employment and Training.

[FR Doc. 2012-9585 Filed 4-19-12; 8:45 am]

BILLING CODE 4510-FN-P